DEPARTMENT OF AGRICULTURE

Agricultural Marketing Service

[AMS-00-02]

Guidelines for AMS Oversight of Commodity Research and Promotion Programs

AGENCY: Agricultural Marketing Service, USDA.

ACTION: Notice; extension of comment period.

SUMMARY: The Department of Agriculture (USDA) is extending the comment period for notice seeking comments on the “Guidelines for AMS Oversight of Commodity Research and Promotion Programs” (Guidelines). The extension will provide interested persons with additional time in which to prepare and submit comments on the notice.

DATES: Comments must be received on or before June 30, 2000.

ADDRESSES: Interested persons are invited to submit written comments concerning this notice to: Barbara C. Robinson, Deputy Associate Administrator, Room 3069 South Bldg., U.S. Department of Agriculture, AMS, OA, Washington, D.C. 20250; telephone (202) 720-4276; fax (202) 690-3967. Comments should be submitted in triplicate and will be made available for public inspection at the above address during regular business hours. Comments may also be submitted electronically to: public.comments@usda.gov. All comments should indicate the docket number and the date and page number of this issue of the Federal Register. A copy of this notice may be found at: www.AMS.USDA.Gov/R&P/.

SUPPLEMENTARY INFORMATION: On December 17, 1999, we published in the Federal Register Doc. 99-32730, a notice seeking comments on the Guidelines. Comments were to be received on or before March 17, 2000. The notice was authorized under the following Federal statutes: the Beef Promotion and Research [7 U.S.C. 2901-2911]; the Canola and Rapeseed Research, Promotion, and Consumer Information Act [7 U.S.C. 7441-7452]; the Commodity Promotion, Research, and Information Act of 1996 [7 U.S.C. 7411-7425]; the Cotton Research and Promotion Act [7 U.S.C. 2101-2118]; the Dairy Production Stabilization Act of 1983 [7 U.S.C. 4501-4513]; the Egg Research and Consumer Information Act [7 U.S.C. 2701-2718]; the Floral Research and Consumer Information Act [7 U.S.C. 4301-4319]; the Fluid Milk Promotion Act of 1990 [7 U.S.C. 6401-6417]; the Fresh Cut Flowers and Fresh Cut Greens Promotion and Consumer Information Act [7 U.S.C. 6801-6814]; the Honey Research, Promotion, and Consumer Information Act, as amended [7 U.S.C. 4601-4612]; the Lime Research, Promotion, and Consumer Information Act, as amended [7 U.S.C. 6201-6212]; the Mushroom Promotion, Research, and Consumer Information Act of 1990 [7 U.S.C. 6101-6112]; the National Kiwifruit Research, Promotion, and Consumer Information Act [7 U.S.C. 7461-7473]; the Pecan Promotion and Research Act of 1990 [7 U.S.C. 6001-6013]; the Popcorn Promotion, Research, and Consumer Information Act [7 U.S.C. 7481-7491]; the Pork Promotion, Research, and Consumer Information Act [7 U.S.C. 4801-4819]; the Potato Research and Promotion Act, as amended [7 U.S.C. 2611-2627]; the Sheep Promotion, Research, and Information Act of 1994 [7 U.S.C. 7101-7111]; the Soybean Promotion, Research, and Consumer Information Act [7 U.S.C. 6301-6311]; the Watermelon Research and Promotion Act, as amended [7 U.S.C. 4901-4916]; and the Wheat and Wheat Foods Research and Nutrition Education Act [7 U.S.C. 3401-3417].

There are currently 13 active programs under these statutes: beef, cotton, dairy, eggs, fluid milk, honey, mushrooms, peanuts, popcorn, pork, potatoes, soybeans, and watermelons.

USDA's Agricultural Marketing Service (AMS) developed the guidelines to facilitate uniform oversight of these and any future national research and promotion programs. The guidelines are part of the findings and recommendations of the Research and Promotion Task Force (task force) that was created by Secretary Glickman in November 1998. The task force held a public meeting in March 1999 and held several working meetings to review the oversight responsibilities of AMS and board operations.

In response to requests from several organizations for additional time to comment, we are extending the comment period until June 30, 2000. This action will allow interested groups, individuals, and other entities additional time to prepare and submit comments.

Dated: February 1, 2000.
Kathleen A. Merrigan,
Administrator, Agricultural Marketing Service.

[FR Doc. 00-2690 Filed 2-4-00; 8:45 am]

BILLING CODE 3410-02-P